ENVIRONMENTAL PROTECTION AGENCY

[FRL-7104-3]

Preparation of Third U.S. Climate Action Report

AGENCY: Environmental Protection Agency (EPA).

ACTION: Notice; request for public comments.

SUMMARY: In June 1992, the United States signed, and later ratified in October, the United Nations Framework Convention on Climate Change (UNFCCC). Pursuant to the national communication reporting requirements under Articles 4.2 and 12 of the Convention and to guidelines later adopted by the UNFCCC Conference of the Parties (COP), the United States submitted the first U.S. Climate Action Report (CAR) to the UNFCCC Secretariat in 1994 and the second in 1997. The U.S. Government has prepared an initial draft of the third national communication for public review. The purpose of this announcement is to notify interested members of the public of the opportunity to submit input on the draft text of the national communication before the final document is completed.

DATES: Written comments should be received on or before noon, December 17, 2001.

ADDRESSES: Comments should be submitted to Mr. Reid P. Harvey via e-mail at harvey.reid@epa.gov or via postal mail to Reid P. Harvey, U.S. Environmental Protection Agency, Office of Atmospheric Programs (Mail Stop 6204N), 1200 Pennsylvania Avenue, NW., Washington, DC 20460.

FOR FURTHER INFORMATION CONTACT: Mr. Reid P. Harvey, Office of Atmospheric Programs, U.S. Environmental Protection Agency at (202) 564-9429.

SUPPLEMENTARY INFORMATION:

Background

In accordance with the UNFCCC's reporting requirements as specified in Articles 4.2 and 12, and following reporting guidelines developed (and adopted by the UNFCCC COP at its first session), the United States prepared the U.S. Climate Action Report (CAR) and submitted it to the UNFCCC Secretariat in October 1994.

At the Second COP, the Parties requested developed country Parties to the Convention to submit to the UNFCCC Secretariat, in accordance with Articles 12.1 and 12.2 of the Convention, a second national communication by April 15, 1997. Parties who submitted first reports in 1996 were to provide an update by the 1997 deadline and Parties with economies in transition were to provide their second communication by April 15, 1998. Developing country Parties have different guidelines and due dates for their national communications. The United States submitted its second national communication to the UNFCCC Secretariat in July 1997.

At the Fifth COP in 1999, the Parties updated the guidelines for preparation of national communications (see FCCC/CP/1999/7). This document is available on the Internet at http://www.unfccc.int/resource/cop5.html. In addition, the Parties requested that third national communications be submitted no later than November 30, 2001. However, the U.S. is not able to meet this deadline and plans to submit the document by late January 2002.

The U.S. issued a Federal Register notice on March 19, 2001 (66 FR 15470-15471) to provide an opportunity for the public to submit input on the issues covered in the third national communication. A copy of the Federal Register notice can be found on the Internet at http://www.epa.gov/globalwarming/publications/actions/FRL-6954-1.pdf. Two comments were submitted by members of the public in response to that notice.

The Third United States Climate Action Report (CAR)

The third CAR provides an update on key activities conducted by the U.S. since the second CAR, an inventory of U.S. greenhouse gas emissions and sinks, an estimate of the effects of mitigation measures and policies on future emissions levels, and a description of U.S. involvement in international programs, including associated contributions and funding efforts. In addition, the text discusses U.S. national circumstances that affect U.S. vulnerability and responses to climate change. Finally, the CAR presents information on the U.S. Global Change Research Program, Global Climate Observing Systems (GCOS), and adaptation programs.

Table of Contents of the Third US CAR

1. Executive summary

2. National circumstances

3. Greenhouse gas inventory

4. Policies and measures

5. Projections and effects of policies and measures

6. Vulnerability assessment, climate change impacts, and adaptation measures

7. Financial resources and transfer of technology

8. Research and systematic observation

9. Education, training, and public awareness

Public Input Process

This Federal Register notice solicits comments on the draft chapters listed above. The individual chapters are posted on the Internet and may be downloaded from the national communication web site listed at the following web site: http://www.epa.gov/globalwarming/nwinsite.html. However, two chapters (the executive summary and chapter 5 on projections) are not yet complete, but will be made available for public comment in approximately two weeks through posting on the web site. Comments may be submitted to the contact listed above. Comments on each of the chapters will be due within 30 days of release, either through notice in the Federal Register or posting on the web site. As the U.S. submission will already be delayed by approximately two months beyond its deadline, a longer review period is not possible.

You may view the 1997 U.S. Climate Action Report on the Internet at: http://www.state.gov/www/global/oes/97climate—report/index.html.

Dated: November 9, 2001.
Robert Brenner,
Acting Assistant Administrator, Office of Air and Radiation.

[FR Doc. 01-28736 Filed 11-14-01; 8:45 am]

BILLING CODE 6560-50-P